DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before March 18, 2010.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5 117(b); 49 CFR 1.53(b)).

Issued in Washington, DC, on February 23, 2010.
Delmer F. Billings,
Director, Office of Hazardous Materials Special Permits and Approvals.

Application number | Docket number | Applicant | Regulation(s) affected | Nature of special permit
MODIFICATION SPECIAL PERMITS
8826-M |  | Phoenix Air Group, Inc. Cartersville, GA | 49 CFR 172.101; 172.204(c)(3); 173.27; 175.30(a)(1); 175.320(b) | To modify the special permit to authorize additional Division 1.5 and 1.6 hazardous materials and make corrections to reflect the current statutes and regulations changes.
11447-M |  | SAES Pure Gas, Inc. San Luis Obispo, CA | 49 CFR 173.187 | To modify the special permit to increase the number of pressure vessels from six to eight.
13057-M |  | MINTEQ International Inc. Canaan, CT | 49 CFR 172 Subparts D, E and F; 173.24(c) Subparts E and F of Part 173 | To modify the special permit by the deleting of three hazardous materials from paragraph 6; change the length of continuous rollor coil from 10,000 meters to 12,500 meters; and authorize steel pallets in addition to wooden pallets in paragraph 7.a.(5).
14282-M |  | T.F. Boyle Transportation, Inc. (Boyle Transportation) Billerica, MA | 49 CFR 173.835(g) | To modify the special permit to authorize an additional four Class hazardous materials.
14650-M |  | Air Transport International, L.L.C. Little Rock, AR | 49 CFR 172.101; 171.11; 172.204(c)(3); 173.27; 175.30(a)(1); 175.320(b) | To modify the special permit to authorize additional Division 1.4D explosives and to authorize additional dedicated air charter flights.

[FR Doc. 2010-4035 Filed 3-2-10; 8:45 am]

BILLING CODE 4910-60-M